SMALL BUSINESS ADMINISTRATION

Information Quality Guidelines

AGENCY: U.S. Small Business Administration.

ACTION: Notice of guidelines and request for comments.

SUMMARY: The U.S. Small Business Administration (“SBA”) is seeking public comments on its draft report (“Report”) concerning SBA's proposed information quality guidelines. The Report describes the guidelines that SBA proposes to follow to ensure and maximize the quality of information it disseminates, and the administrative mechanism SBA proposes to use to allow affected persons to seek and obtain correction of information SBA maintains and disseminates.

DATES: Comments are due on June 30, 2002.

ADDRESSES: Send comments to Chet Francis, Office of the Chief Information Officer, U.S. Small Business Administration, 409 Third Street, SW, Suite 4000, Washington, DC 20416.

FOR FURTHER INFORMATION CONTACT: Chet Francis, Office of the Chief Information Officer, (202) 205-6289.

SUPPLEMENTARY INFORMATION: Pursuant to the Office of Management and Budget “Guidelines for Ensuring and Maximizing the Quality, Objectivity, Utility, and Integrity of Information Disseminated by Federal Agencies,” effective January 3, 2002 (“OMB Guidelines”), SBA is required to issue its own information quality guidelines and to establish an administrative mechanism for affected persons to seek and obtain correction of information maintained and disseminated by SBA that does not comply with the OMB Guidelines. SBA also must issue a draft report presenting these two items, and make such report available to the public for comment. SBA's draft Report is available to the public on SBA's web site at http://www.sba.gov/aboutsba/infoqualityguidelines.pdf, or by calling Chet Francis at (202) 205-6289, or writing to him at Office of the Chief Information Officer, U.S. Small Business Administration, 409 Third Street, SW, Suite 4000, Washington, DC 20416.

SBA specifically seeks comments on (1) whether SBA's draft guidelines are adequate to ensure and maximize the quality, objectivity, utility, and integrity of the information, including statistical information, that SBA disseminates; and (2) whether SBA's draft administrative mechanism, for affected persons to seek and obtain correction of information maintained and disseminated by SBA that does not comply with the OMB Guidelines, is adequate.

After consideration of public comments, SBA will make appropriate revisions to the draft Report and submit it to OMB for review by no later than July 1, 2002. Upon completion of OMB's review and finalization of the Report, SBA will make its final Report available to the public by no later than October 1, 2002.

Authority: Section 515(a) of the Treasury and General Government Appropriations Act for FY 2001, Pub. L. No. 106-554; Office of Management and Budget “Guidelines for Ensuring and Maximizing the Quality, Objectivity, Utility, and Integrity of Information Disseminated by Federal Agencies,” effective January 3, 2002, 67 FR 8452 (Feb. 22, 2002).

Lawrence E. Barrett,
Chief Information Officer.

[FR Doc. 02-13989 Filed 6-3-02; 8:45 am]

BILLING CODE 8025-01-P